DEPARTMENT OF HEALTH AND HUMAN SERVICES

Administration for Children and Families

Proposed Information Collection Activity; Comment Request

Proposed Projects:

Title: ACF-196TT Tribal Temporary Assistance for Needy Families Financial Report.

OMB No.: New Collection.

Description: This information collection is authorized under the Personal Responsibility and Work Opportunity Reconciliation Act of 1996 (PRWORA).

Tribal entities participating in the Temporary Assistance for Needy Families program are required by statute to report financial data on a quarterly basis. This form meets the legal standard and provides essential data on the use of Federal funds. Failure to collect the data would seriously compromise ACF's ability to monitor program expenditures, estimate funding needs and to prepare budget submissions required by Congress.

Respondents: Tribal TANF Agencies.

Annual Burden Estimates
Instrument | Number of respondents | Number of responses per respondent | Average burden hours per response | Total burden hours
ACF-196TT | 50 | 4 | 8 | 1,600

Estimated Total Annual Burden Hours: 1,600.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Administration, 370 L'Enfant Promenade, SW., Washington, DC 20447, Attn: Gregory Kenyon, Division of Mandatory Grants. Alternatively, you may request a copy of the proposed form and submit comments by e-mail at gkenyon@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: August 15, 2005.
Robert Sargis,
Reports Clearance Officer.

[FR Doc. 05-16639 Filed 8-22-05; 8:45 am]

BILLING CODE 4184-01-M